DEPARTMENT OF COMMERCE

International Trade Administration

[A-570-831]

Fresh Garlic From the People's Republic of China: Final Results of the Changed Circumstances Review of Lanling Qingshui Vegetable Foods Co., Ltd.

AGENCY: Enforcement and Compliance, International Trade Administration, Department of Commerce.

SUMMARY: On March 23, 2015, the Department of Commerce (Department) published a notice of preliminary results of a changed circumstance review (CCR) of the antidumping duty (AD) order on fresh garlic from the People's Republic of China (PRC) ¹ in response to a request from Lanling Qingshui Vegetable Foods Co., Ltd. (Qingshui), a producer/exporter of fresh and peeled garlic from the PRC.² Pursuant to section 751(b) of the Tariff Act of 1930, as amended (the Act), and 19 CFR 351.216, the Department preliminarily determined that Qingshui is the successor-in-interest to Cangshan Qingshui Vegetable Foods Co., Ltd. (Cangshan Qingshui) for purposes of the AD order on fresh garlic from the PRC, and, as such, is entitled to Cangshan Qingshui's cash deposit rate with respect to entries of subject merchandise. We invited interested parties to comment on the Preliminary Results. As no parties submitted comments or requested a hearing, the Department continues to find that Qingshui is the successor-in-interest to Cangshan Qingshui for these final results.

¹ See Antidumping Duty Order: Fresh Garlic from the People's Republic of China, 59 FR 59209 (November 16, 1994) (Order).

² See Fresh Garlic from the People's Republic of China: Preliminary Results of the Changed Circumstances Review of Lanling Qingshui Vegetable Foods Co., Ltd., 80 FR 15192 (March 23, 2015) (Preliminary Results).

DATES: Effective Date: July 7, 2015.

FOR FURTHER INFORMATION CONTACT: Hilary E. Sadler, Esq., AD/CVD Operations, Office VII, Enforcement and Compliance, International Trade Administration, U.S. Department of Commerce, 14th Street and Constitution Avenue NW., Washington, DC 20230; telephone: (202) 482-4340.

SUPPLEMENTARY INFORMATION:

Background

Based on a request from Qingshui, the Department initiated a CCR on Qingshui to determine whether it is the successor-in-interest to Cangshan Qingshui, for purposes of determining antidumping duties due as a result of the Order. The Department preliminarily determined that Qingshui is the successor-in-interest to Cangshan Qingshui and is entitled to its cash deposit rate with respect to entries of merchandise subject to the AD order on fresh garlic from the PRC.³ The Department provided interested parties 30 days from the date of publication of the preliminary results to submit comments or request a public hearing in accordance with 19 CFR 351.309(c)(1)(ii). No parties submitted comments or requests for a public hearing.

³ See Preliminary Results.

Scope of the Order

The products covered by the order are all grades of garlic, whole or separated into constituent cloves, whether or not peeled, fresh, chilled, frozen, water or other neutral substance, but not prepared or preserved by the addition of other ingredients or heat processing. The differences between grades are based on color, size, sheathing, and level of decay. The scope of the order does not include the following: (a) Garlic that has been mechanically harvested and that is primarily, but not exclusively, destined for non-fresh use; or (b) garlic that has been specially prepared and cultivated prior to planting and then harvested and otherwise prepared for use as seed. The subject merchandise is used principally as a food product and for seasoning. The subject garlic is currently classifiable under subheadings: 0703.20.0000, 0703.20.0010, 0703.20.0015, 0703.20.0020, 0703.20.0090, 0710.80.7060, 0710.80.9750, 0711.90.6000, 0711.90.6500, 2005.90.9500, 2005.90.9700, 2005.99.9700, and of the Harmonized Tariff Schedule of the United States (HTSUS).

Although the HTSUS subheadings are provided for convenience and customs purposes, our written description of the scope of the order is dispositive. In order to be excluded from the order, garlic entered under the HTSUS subheadings listed above that is (1) mechanically harvested and primarily, but not exclusively, destined for non-fresh use or (2) specially prepared and cultivated prior to planting and then harvested and otherwise prepared for use as seed must be accompanied by declarations to U.S. Customs and Border Protection to that effect.

Final Results of Changed Circumstances Review

Because no party submitted comments opposing the Department's Preliminary Results, and the record contains no other information or evidence that calls into question the Preliminary Results, the Department determines that Qingshui is the successor-in-interest to Cangshan Qingshui.

Instructions to U.S. Customs and Border Protection

As a result of this determination, the Department finds that Qingshui is entitled to the cash deposit rate previously assigned to Cangshan Qingshui as determined in the new shipper review of Cangshan Qingshui.⁴ Consequently, the Department will instruct U.S. Customs and Border Protection to collect estimated antidumping duties for all shipments of subject merchandise produced and/or exported by Qingshui, and entered, or withdrawn from warehouse, for consumption on or after the publication date of this notice in the Federal Register at $3.06 per kilogram, which is the current antidumping duty cash deposit rate for Cangshan Qingshui.⁵ This cash deposit requirement shall remain in effect until further notice.

⁴ See Fresh Garlic From the People's Republic of China: Final Results of the Semiannual Antidumping Duty New Shipper Review of Jinxiang Merry Vegetable Co., Ltd. and Cangshan Qingshui Vegetable Foods Co., Ltd.; 2012-2013, 79 FR 62103 (October 16, 2014) with accompanying issues and decision memorandum (NSR).

⁵ See id.

Notification to Parties

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

We are issuing and publishing these final results in accordance with sections 751(b)(1) and 777(i) of the Act, and 19 CFR 351.216.

Dated: June 30, 2015.
Paul Piquado,
Assistant Secretary for Enforcement and Compliance.

[FR Doc. 2015-16644 Filed 7-6-15; 8:45 am]

BILLING CODE 3510-DS-P